DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement, with change of the Survey of Respirator Use and Practices.” A copy of the proposed information collection request can be obtained by contacting the individual listed below in the ADDRESSES section of this notice.

DATES: Written comments must be submitted to the office listed in the ADDRESSES section of this notice on or before May 10, 2021.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See ADDRESSES section.)

SUPPLEMENTARY INFORMATION:

I. Background

The Survey of Respirator Use and Practices (SRUP) is a nationwide survey that the Bureau of Labor Statistics (BLS) will conduct at the request of the National Institute for Occupational Safety and Health (NIOSH). Data collection for the SRUP will start in early 2022.

In 2001, NIOSH partnered with BLS to conduct the first voluntary Survey of Respirator Use and Practices. This survey revealed important insights into respiratory use and hazards in the U.S. used by researchers, policy advisors, and regulators to further the mission of protecting U.S. workers from airborne hazards. Since then, there have been major shifts in the U.S. economy representing the potential for a drastic change in how respirators are used and the workers who may be at risk for occupational respiratory disease across a vast array of industrial settings. This calls for a contemporary understanding of the types of establishments, industries, and occupations that use respirators, why they use them, and how they manage them.

In a 2007 assessment of the survey conducted by the National Academies of Sciences, Engineering, and Medicine (NASEM), both NIOSH and BLS were applauded “for undertaking this pioneering data collection in order to improve understanding of respirator use in industry.” The NASEM assessment further suggested that the survey fulfilled a necessary function of NIOSH's surveillance efforts. The committee recommended that NIOSH continue to address data needs to evaluate and improve NIOSH's respirator approval program by periodically updating the data to ensure that a current understanding of respirator use in the U.S. is maintained to inform accurate decision making in this area. This survey thereby follows the National Academies' research committee recommendations to provide a current understanding of respirator use in industry.

II. Current Action

Office of Management and Budget clearance is being sought for the Survey of Respirator Use and Practices.

NIOSH has a continuing need for more in-depth usage data to evaluate the approval of respiratory protective devices under 42 CFR 84 CFR to pinpoint areas of non-conformance and where education and training efforts are needed. The data collected from the survey of Respirator use and Practices will be used by NIOSH to (1) establish prevalence of exposure to hazardous atmospheres, (2) determine the prevalence of respirator use, (3) determine the type of respirators being used and what types of contaminants they are being used to mitigate, (4) determine how respirators are used in the workplace, (5) whether employers optimally manage use for maximum worker protection, and (6) determine opportunities for improving respirator technologies. The survey also has the additional, newly added objective of determining the impact of the COVID-19 pandemic on respirator use in the workplace.

Twenty years after the initial survey, NIOSH again is collaborating with BLS to administer a voluntary Survey of Respirator Use and Practices, thereby following the National Academies' research committee recommendations to provide a current understanding of respirator use in industry. By establishing the current state of practice, high yield endeavors designed to reduce fatalities, injuries and illnesses related to occupational respiratory hazards in the U.S. may be targeted for policy, funding, outreach, and education by NIOSH's respirator approval program, the programs of occupational safety and health regulatory bodies within the U.S. (OSHA and MSHA), U.S. employers, and respiratory protection research and development.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Survey of Respirator Use and Practices.

OMB Number: 1220-0171.

Type of Review: Reinstatement, with change.

Affected Public: Private Sector, Business or other for-profits, Not-for-profit institutions, Farms.

Total Respondents: 90,000.

Frequency: One time collection.

Total Responses: 90,000.

Average Time per Response: 28.5 minutes.

Estimated Total Burden Hours: 42,750 hours.

Comments submitted in response to this notice will be summarized and/or included in the request for Office of Management and Budget approval of the information collection request; they also will become a matter of public record.

Signed at Washington, DC, on March 4, 2021.
Mark Staniorski,
Chief, Division of Management Systems.

[FR Doc. 2021-05043 Filed 3-10-21; 8:45 am]

BILLING CODE 4510-24-P